DEPARTMENT OF ENERGY

Notice of an Additional Scoping Meeting for the Environmental Impact Statement for the Long-Term Management and Storage of Elemental Mercury, Extension of the Public Comment Period, and Correction

AGENCY: Department of Energy.

ACTION: Notice of an Additional Scoping Meeting, Extension of the Public Comment Period, and Correction.

SUMMARY: On July 2, 2009, the Department of Energy (DOE or the Department) published its Notice of Intent to prepare an Environmental Impact Statement for the Long-Term Management and Storage of Elemental Mercury (Mercury Storage EIS) (74 FR 31723). In that Notice of Intent, DOE invited public comments on the proposed scope of the Mercury Storage EIS during a 45-day public scoping period and announced seven public scoping meetings would be held in the vicinity of the sites proposed for evaluation in this EIS as candidate facilities for the long-term management and storage of elemental mercury generated within the United States. DOE is now announcing the addition of a public scoping meeting to be held on August 13, 2009, in Portland, Oregon, and an extension of the public scoping period. DOE also is correcting language contained in the July 2, 2009, Notice of Intent.

DATES: DOE is extending the scoping period from the 45 days previously announced to 52 days. DOE invites public comment on the scope of this EIS during a public scoping period that commenced on July 2, 2009, and has been extended from August 17, 2009, to August 24, 2009. DOE will hold all of the public scoping meetings on this EIS from 5:30 p.m.-9:30 p.m.. The added public scoping meeting will be held as follows:

August 13, 2009. Red Lion Portland Convention Center, 1021 NE., Grand Avenue, Portland, OR 97232.

All other public scoping meetings will be held as announced in the July 2, 2009, Notice of Intent. Additional details on all scoping meetings will be provided in local media and at http://www.mercurystorageeis.com.

In defining the scope of the EIS, DOE will consider all comments received or postmarked by the end of the scoping period. Comments received or postmarked after the scoping period end date will be considered to the extent practicable.

ADDRESSES: Written comments on the scope of the EIS may be submitted by mail to: Mr. David Levenstein, EIS Document Manager, P.O. Box 2612 Germantown, MD 20874, by toll free fax to 1-877-274-5462; or through the EIS Web site at http://www.mercurystorageeis.com.

To be placed on the EIS distribution list, any of the methods listed under ADDRESSES above can be used. In requesting a copy of the Draft EIS, please specify whether the request is for a copy of the Summary only, the entire Draft EIS, or the entire Draft EIS (which includes the Summary) on a compact disc. In addition, the Draft EIS will be available on the DOE NEPA Web site at http://www.gc.energy.gov/NEPA/ and at the EIS Web site referenced above.

FOR FURTHER INFORMATION CONTACT: For further information about the EIS, please contact Mr. David Levenstein, EIS Document Manager, Office of Regulatory Compliance (EM-10), U.S. Department of Energy, 1000 Independence Avenue, SW., Washington, DC 20585. For general information concerning DOE's NEPA process, contact: Carol M. Borgstrom, Director, Office of NEPA Policy and Compliance (GC-20), U.S. Department of Energy, 1000 Independence Avenue, SW., Washington, DC 20585; e-mail: askNEPA@hq.doe.gov; telephone 202-586-4600; fax 202-586-7031; or leave a message at 1-800-472-2756. This Notice will be available at http://www.gc.energy.gov/NEPA/ and at http://www.mercurystorageeis.com.

SUPPLEMENTARY INFORMATION: On July 2, 2009 (74 FR 31723), the Department published a Notice of Intent in the Federal Register. We believe it is necessary to issue the following correction to read:

• On page 31723, the first sentence of the “Background” section is corrected to read: The Mercury Export Ban Act of 2008 (Pub. L. No. 110-414), amends section 6 of the Toxic Substances Control Act (TSCA) (15 USC 2605) to prohibit, effective October 14, 2008, any Federal agency from conveying, selling, or distributing (with certain limited exceptions) to any other Federal agency, any State or local government agency, or any private individual or entity any elemental mercury under the control or jurisdiction of the Federal agency. In all other respects, the SUPPLEMENTARY INFORMATION section of the July 2, 2009, Notice of Intent remains the same.

The Mercury Export Ban Act also prohibits the export of elemental mercury from the United States effective January 1, 2013 (subject to certain essential use exceptions). Section 5 of the Act, Long-Term Storage, directs DOE to designate a facility or facilities for the long-term management and storage of elemental mercury generated within the United States. DOE's facility or facilities must be operational by January 1, 2013, and ready to accept custody of elemental mercury delivered to such a facility. The Act also requires DOE to assess fees based upon the pro rata costs of long-term management and storage. For additional supplementary information regarding anticipated mercury inventory, proposed NEPA alternatives, and preliminary identification of environmental issues, please refer to the July 2, 2009, Notice of Intent.

Purpose and Need for Action

DOE needs to develop a capability for the safe and secure long-term management and storage of elemental mercury as required by the Act. Accordingly, the Department needs to identify an appropriate facility or facilities to host this activity.

Proposed Action

DOE proposes to select one or more existing (including modification as needed) or new facilities for the long-term management and storage of elemental mercury in accordance with the Act. Facilities to be constructed as well as existing or modified facilities must comply with applicable requirements of section 5(d) of the Act, Management Standards for a Facility, including the requirements of the Solid Waste Disposal Act, as amended by the Resource Conservation and Recovery Act (RCRA), and other permitting requirements. DOE intends to identify the facility or facilities through the NEPA process. EPA is a cooperating agency on the EIS.

EIS Process and Invitation to Comment

NEPA implementing regulations require an early and open process for determining the scope of an EIS and for identifying the significant issues related to the proposed action. Accordingly, DOE has invited Federal agencies, State, local and Tribal governments, the general public and international community to comment on the scope of the EIS, including identification of reasonable alternatives and specific issues to be addressed. DOE will hold public meetings on the scope of the EIS. (See DATES section above for detailed information.)

At each scoping meeting, DOE plans to hold an open house one hour prior to the formal portion of the meetings to allow participants to register to provide oral comments, view informational materials, and engage project staff. The registration table will have an oral comment registration form as well as a sign up sheet for those who do not wish to give oral comments but who would like to be included on the mailing list to receive future information. The public may provide written and/or oral comments at the scoping meetings. Analysis of all public comments provided during the scoping meetings as well as those submitted as described in ADDRESSES above, will be considered in helping DOE further develop the scope of the EIS and potential issues to be addressed. DOE expects to issue a Draft EIS in the fall of 2009.

Issued in Washington, DC on July 17, 2009.
Frank Marcinowski,
Deputy Assistant Secretary for Regulatory Compliance, Office of Environmental Management.

[FR Doc. E9-17566 Filed 7-23-09; 8:45 am]

BILLING CODE 6450-01-P